ENVIRONMENTAL PROTECTION AGENCY

[ER-FRL-9031-1]

Environmental Impact Statements; Notice of Availability

Responsible Agency: Office of Federal Activities, General Information (202) 564-7146 or http://www.epa.gov/nepa.

Weekly receipt of Environmental Impact Statements (EISs) Filed 12/19/2016 Through 12/23/2016.

Pursuant to 40 CFR 1506.9.

Notice

Section 309(a) of the Clean Air Act requires that EPA make public its comments on EISs issued by other Federal agencies. EPA's comment letters on EISs are available at: http://www.epa.gov/compliance/nepa/eisdata.html.

EIS No. 20160312, Draft, USFWS, CA, City of San Diego Vernal Pool Habitat Conservation Plan, Comment Period Ends: 03/06/2017, Contact: Dan Cox 916-414-6539.

EIS No. 20160313, Final, NASA, FL, Center-wide Operations at the Kennedy Space Center, Review Period Ends: 01/30/2017, Contact: Donald Dankert 321-861-1196.

EIS No. 20160314, Draft, USFS, CA, Mitsubishi Cement Corporation South Quarry Plan of Operation, Comment Period Ends: 02/13/2017, Contact: Scott Eliason 909-382-2830.

EIS No. 20160315, Draft, FHWA, IL, Interstate 290 (Eisenhower Expressway), Comment Period Ends: 02/13/2017, Contact: Catherine A. Batey 217-492-4600.

EIS No. 20160316, Final, Caltrans, FHWA, CA, Eureka Arcata Route 101 Corridor Improvement Project, Review Period Ends: 01/30/2017, Contact: David Tedrick 916-498-5024.

EIS No. 20160317, Draft, BLM, NV, Sagebrush Focal Areas Withdrawal, Comment Period Ends: 03/31/2017, Contact: Mark Mackiewicz 801-636-3616.

EIS No. 20160318, Final, BR, CA, Bay Delta Conservation Plan/California WaterFix, Review Period Ends: 01/30/2017, Contact: Brooke White 916-414-2402.

Dated: December 27, 2016.
Dawn Roberts,
Management Analyst, NEPA Compliance Division, Office of Federal Activities.

[FR Doc. 2016-31758 Filed 12-29-16; 8:45 am]

BILLING CODE 6560-50-P